DEPARTMENT OF DEFENSE

Office of the Secretary

[Transmittal No. 24-98]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-98, Policy Justification, and Sensitivity of Technology.

Dated: November 18, 2025.
Stephanie J. Bost,
Alternate OSD Federal Register Liaison Officer, Department of Defense.

Transmittal No. 24-98

Notice of Proposed Issuance of Letter of Offer Pursuant to Section 36(b)(1) of the Arms Export Control Act, as amended

(i) Prospective Purchaser: Government of Italy

(ii) Total Estimated Value:

Major Defense Equipment * | $0
Other | $680 million
TOTAL | $680 million

(iii) Description and Quantity or Quantities of Articles or Services under Consideration for Purchase: The Government of Italy has requested to buy the Electronic Attack (EA)-37B mission system, consisting of:

Major Defense Equipment (MDE):

None

Non-Major Defense Equipment:

The following non-MDE items: Network Centric Collaborative Targeting (NCCT) systems; System Control and Monitoring subsystems; Radio Frequency Receiver (RFR) subsystems; Software-defined Radio (SDR) subsystems; Counter Radar Assembly; Array Panels; AN/ARC-210 RT-2036 radios; KG-250 In-line Network Encryptors; KY-100 Narrow/wideband Terminals; KIV-77 Mode 4/5 Identification Friend or Foe (IFF); AN/PYQ-10C Simple Key Loaders; integration and test support and equipment; aircraft support and support equipment; secure communications equipment, precision navigation, and cryptographic devices; major and minor modifications, maintenance, and maintenance support; spare parts, consumables and accessories, and repair and return support; classified and unclassified software delivery and support; classified and unclassified publications and technical documentation; personnel training and training equipment; facilities and construction support; transportation and airlift support; warranties; studies and surveys; United States (U.S.) Government and contractor engineering, technical, and logistics support services; and other related elements of logistics and program support.

(iv) Military Department: Air Force (IT-D-QBA)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 7, 2024

* as defined in Section 47(6) of the Arms Export Control Act.

POLICY JUSTIFICATION

Italy—Electronic Attack Mission System

The Government of Italy has requested to buy the Electronic Attack (EA)-37B mission system, consisting of the following non-Major Defense Equipment: Network Centric Collaborative Targeting (NCCT) systems; System Control and Monitoring subsystems; Radio Frequency Receiver (RFR) subsystems; Software-defined Radio (SDR) subsystems; Counter Radar Assembly; Array Panels; AN/ARC-210 RT-2036 radios; KG-250 In-line Network Encryptors; KY-100 Narrow/wideband Terminals; KIV-77 Mode 4/5 Identification Friend or Foe (IFF); AN/PYQ-10C Simple Key Loaders; integration and test support and equipment; aircraft support and support equipment; secure communications equipment, precision navigation, and cryptographic devices; major and minor modifications, maintenance, and maintenance support; spare parts, consumables and accessories, and repair and return support; classified and unclassified software delivery and support; classified and unclassified publications and technical documentation; personnel training and training equipment; facilities and construction support; transportation and airlift support; warranties; studies and surveys; U.S. Government and contractor engineering, technical, and logistics support services; and other related elements of logistics and program support. The estimated total cost is $680 million.

This proposed sale will support the foreign policy goals and national security objectives of the U.S. by improving the security of a NATO Ally that is a force for political stability and economic progress in Europe.

The proposed sale will improve Italy's capability to meet current and future threats by increasing interoperability with the United States Air Force (USAF) and disrupting enemy command and control communications when Italy is contributing to overseas contingency operations. Italy will have no difficulty absorbing these articles into its armed forces.

The proposed sale of this equipment and support will not alter the basic military balance in the region.

The principal contractor will be BAE Systems, located in Hudson, NH. There are no known offset agreements proposed in connection with this potential sale.

Implementation of this proposed sale will not require the assignment of any additional U.S. Government or contractor representatives to Italy.

There will be no adverse impact on U.S. defense readiness as a result of this proposed sale.

Transmittal No. 24-98

Notice of Proposed Issuance of Letter of Offer Pursuant to Section 36(b)(1) of the Arms Export Control Act

Annex

Item No. vii

(vii) Sensitivity of Technology:

1. The Electronic Attack (EA)-37B mission system is a wide-area airborne EA weapon system utilizing a heavily modified Gulfstream G550 airframe. It is comprised of specialized equipment for jamming early warning radars.

a. The array panels are mounted to the side of the EA-37B fuselage. Its purpose is to receive and transmit radio frequency (RF) energy during electronic attack missions. The array panel houses the Line Replaceable Units (LRUs) for the transmitter active electronically scanned arrays (AESAs) and the receiver direction finding (DF) arrays.

b. The counter-radar (CR) assembly is comprised of the advanced radar countermeasure subsystem (ARCS) chassis and the radar geolocation (R-GEO) chassis. These two subsystems combine to provide full-spectrum CR operations.

c. The system control and monitoring (SCM) subsystem component is part of the EA-37B aircraft and contains the core operational flight program (OFP) and provides an interface between the OFP and the prime mission equipment (PME). It also provides the classified data at rest (CDAR) solution for the PME.

d. The radio frequency receiver (RFR) subsystem provides RF conditioning and distribution to the software-defined radio (SDR) and CR subsystems.

e. The SDR subsystem contains the hardware and software that includes the computing environment for signal processing functions and additional RF translation.

2. Network-Centric Collaborative Targeting (NCCT) is the USAF program of record for collaborative geolocation of time-sensitive targets within and across intelligence disciplines. NCCT correlation and fusion SW and HW collect data and perform multi-domain sensor integration to produce a single composite track (geo-location and identification) for high-value targets.

3. ARC-210 and ARC-238 radios are voice communications radio systems equipped with Second Generation Antijam Tactical ultra-high frequency (UHF) Radio for NATO (SATURN), which employ cryptographic technology. Other waveforms may be included as needed.

4. The KG-250 in-line network encryptor offers foreign interoperability and programmable information assurance. This device is a high-speed IP network encryptor.

5. The KY-100M is a cryptographic-modernized lightweight terminal for secure voice and data communications. The KY-100M provides wideband/narrowband half-duplex communication. Operating in tactical ground, marine, and airborne applications, the KY-100M enables secure communication with a broad range of radio and satellite equipment.

6. The KIV-77 is a cryptographic applique for Identification Friend or Foe (IFF). It can be loaded with Mode 5 classified elements.

7. The AN/PYQ-10C Simple Key Loaders is a handheld device used for securely receiving, storing, and transferring data between compatible cryptographic and communications equipment.

8. The highest level of classification of defense articles, components, and services included in this potential sale is TOP SECRET.

9. If a technologically advanced adversary were to obtain knowledge of the specific hardware and software elements, the information could be used to develop countermeasures that might reduce weapon system effectiveness or be used in the development of a system with similar or advanced capabilities.

10. A determination has been made that Italy can provide substantially the same degree of protection for the sensitive technology being released as the U.S. Government. This sale is necessary in furtherance of the U.S. foreign policy and national security objectives outlined in the Policy Justification.

11. All defense articles and services listed in this transmittal have been authorized for release and export to the Government of Italy.

[FR Doc. 2025-20503 Filed 11-20-25; 8:45 am]

BILLING CODE 6001-FR-P